DEPARTMENT OF TRANSPORTATION

Federal Highway Administration

Notice of Final Federal Agency Actions on Proposed Highway in Idaho

AGENCY: Federal Highway Administration (FHWA), DOT.

ACTION: Notice of Limitation on Claims for Judicial Review of Actions by FHWA.

SUMMARY: This notice announces actions taken by the FHWA that are final within the meaning of 23 U.S.C. 139(l)(1). The actions relate to a proposed highway project, 1-84 Orchard Interchange to Gowen Interchange Study, in Boise, Ada County in the State of Idaho [Idaho Transportation Department (ITD) Key Number 6492].

DATES: By this notice, the FHWA is advising the public of final agency actions subject to 23 U.S.C. 139(l)(1). A claim seeking judicial review of the Federal agency actions on the highway project will be barred unless the claim is filed on or before January 13, 2009. If the Federal law that authorizes judicial review of a claim provides a time period of less than 180 days for filing such claim, then that shorter time period still applies.

FOR FURTHER INFORMATION CONTACT: For FHWA: Mr. Peter Hartman, Division Administrator, Federal Highway Administration, 3050 Lake Harbor Lane, Suite 126, Boise, Idaho 83703; telephone: (208) 334-1843; e-mail: Peter.Hartman@fhwa.dot.gov. The FHWA Idaho Division Office's normal business hours are 8 a.m. to 5 p.m. (Mountain Standard Time). For lID: Ms. Sue Sullivan, Project Manager, Idaho Transportation Department, District 3 Office, 8150 Chinden Blvd., Boise, Idaho 83724, telephone: (208) 334-8300. Normal business hours are 8 a.m. to 5 p.m. (Mountain Standard Time).

SUPPLEMENTARY INFORMATION: Notice is hereby given that the FHWA has taken final agency actions subject to 23 U.S.C. 139(I)(1) by issuing approvals for the following highway project in the State of Idaho: 1-84 Orchard Interchange to Gowen Interchange Study in Boise, Ada County. The project will be 9.2 miles long, and expand the existing four-lane freeway to an eight-lane freeway with auxiliary lanes from approximately one half mile west of the Orchard interchange to Broadway interchange. An existing four-lane freeway will be expanded to a six-lane freeway from Broadway interchange to Gowen interchange and from Gowen interchange to just east of Issacs Canyon the existing four-lane freeway will be reconstructed. The project also includes the reconstruction of the Vista, Orchard, Broadway and Gowen interchanges. The actions by the FHWA, and the laws under which such actions were taken, are described in the Environmental Assessment (EA) for the project approved on July 13, 2007. A Finding of No Significant Impact (FONSI) issued on November 5, 2007. The EA, FONSI and other project records are available by contacting the FHWA or the Idaho Transportation Department at the addresses provided above. The EA and FONSI can be viewed and downloaded from the project Web site at http://www.itd.idaho.gov/Projects/D3/I84Orchard To Gowen/ or viewed at the Idaho Transportation Department.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128]; Public Hearing [23 U.S.C. 128].

2. Air and Noise: Clean Air Act [42 U.S.C. 7401-7671(q)]; Intermodal Surface Transportation Efficiency Act of 1991, Congestion Mitigation and Air Quality Improvement Program (Sec 1008 U.S.C. 149); Noise Standards: 23 U.S.C. 109(i) (P.L. 91-605) (P.L. 93-87).

3. Wildlife: Endangered Species Act [16 U.S.C. 1531-1544 and Section 1536]; Fish and Wildlife Coordination Act [16 U.S.C. 661-667(d)]; Migratory Bird Treaty Act [16 U.S.C. 703-712].

4. Historic and Cultural Resources: Section 106 of the National Historic Preservation Act of 1966, as amended [16 U.S.C. 470(f) et seq.]; Archeological Resources Protection Act of 1977 [16 U.S.C. 470(aa)-470(II)]; Archeological and Historic Preservation Act [16 U.S.C. 469-469(c)].

5. Land: Section 4(f) of The Department of Transportation Act: 23 U.S.C. 138,49 U.S.C. 303 (P.L. 100-17), (P.L. 7-449), (P.L. 86-670); Farmland Protection Policy Act (FPPA) [7 U.S.C. 4201-4209]; Solid Waste Disposal Act, as amended by the Resource Conservation and Recovery Act of 1976 (42 U.S.C. 6901, et seq.).

6. Social and Economic: Civil Rights Act of 1964 (42 U.S.C. 2000(d)-2000(d)(1)]; Uniform Relocation Assistance and Real Property Acquisition Act of 1970 (42 U.S.C. 4601 et seq., P.L. 91-646) as amended by the Uniform Relocation Act Amendments of 1987 (P.L. 100-17).

7. Wetlands and Water Resources: Clean Water Act [33 U.S.C.]; Wetlands Mitigation [23 U.S.C. 103(b)(6)(M) and 133(b)(11)].

8. Executive Orders: E.O. 11990 Protection of Wetlands; E.O. 12898, Federal Actions to Address Environmental Justice in Minority Populations and Low Income Populations; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. § 139(l)(1).

Issued on: July 8, 2008.
Peter J. Hartman,
Division Administrator, FHWA—Idaho Division.

[FR Doc. E8-16052 Filed 7-16-08; 8:45 am]

BILLING CODE 4910-RY-M